DEPARTMENT OF LABOR

Employment and Training Administration

[TA-W-57,200]

The Gillette Company, Duracell Lexington Plant, Lexington, NC; Notice of Termination of Investigation

Pursuant to Section 221 of the Trade Act of 1974, as amended, an investigation was initiated on May 18, 2005 in response to a worker petition filed by a company official on behalf of workers at The Gillette Company, Duracell Lexington Plant, Lexington, North Carolina.

The petitioning group of workers is covered by an active certification (TA-W-56,286) which expires on May 19, 2007. Consequently, further investigation in this case would serve no purpose, and the investigation has been terminated.

Signed at Washington, DC this 26th day of May 2005.
Richard Church,
Certifying Officer, Division of Trade Adjustment Assistance.

[FR Doc. E5-3041 Filed 6-10-05; 8:45 am]

BILLING CODE 4510-30-P